DEPARTMENT OF STATE

[Public Notice 6971]

U.S. Department of State Advisory Committee on Private International Law Study Group Notice of Meeting on the United Nations Commission on International Trade Law (UNCITRAL) Draft Legislative Guide on Secured Transactions and Its Treatment of Security Rights in Intellectual Property (IP)

The Department of State, Office of the Legal Adviser, Private International Law and the U.S. Patent and Trademark Office will convene another round table public meeting to discuss the supplement to the UNCITRAL Legislative Guide on Secured Transactions (“the Guide”) dealing with security rights in intellectual property, as well as possible future work in UNCITRAL on an IP licensing guide. The meeting will take place on Friday, May 14, 2010 from 10 a.m. to 12:30 p.m. EST at the Department of State, Office of Private International Law, 2430 E Street, NW., Washington, DC. This is not a meeting of the full Advisory Committee, but a meeting of one of its Study Groups.

Please follow the link below for the report of the final session of the Working Group, February 8-12, 2010, in New York (A/CN.9/689), as well as the draft text of the IP supplement to the Guide (A/CN.9/700 and Add. 1-7) that will be considered for final adoption by UNCITRAL at its annual session in June in New York. http://www.uncitral.org/uncitral/en/commission/sessions/43rd.html.

The UNCITRAL Third International Colloquium on Secured Transactions held March 1-3, 2010 in Vienna discussed possible future work in the area of secured transactions and, in particular, further work after the completion of the supplement to the Guide. A variety of topics were discussed in the colloquium, including possible future work on a contractual guide on intellectual property licensing. UNCITRAL will also consider this issue at its annual session. Please follow the link below for papers presented at the colloquium. http://www.uncitral.org/uncitral/en/commission/colloquia/3rdint.html.

The report of the colloquium is not yet available.

Time and Place: The meeting will take place on Friday, May 14, 2010 from 10 a.m. to 12:30 p.m. EST at the Department of State, Office of Private International Law, 2430 E Street, NW., Washington, DC.

Public Participation: This Study Group round table meeting is open to the public, subject to the capacity of the meeting room. Access to the meeting building is controlled; persons wishing to attend should contact Tricia Smeltzer or Niesha Toms of the Department of State Legal Adviser's Office at SmeltzerTK@state.gov or TomsNN@state.gov and provide your name, e-mail address, and mailing address to get admission into the meeting or to get directions to the office. Persons who cannot attend but who wish to comment are welcome to do so by e-mail to Michael Dennis at DennisMJ@state.gov or Justin Hughes at justin.hughes@uspto.gov. A member of the public needing reasonable accommodation should advise those same contacts not later than May 12th. Requests made after that date will be considered, but might not be able to be fulfilled. If you are unable to attend the public meeting and you would like to participate by teleconferencing, please contact Tricia Smeltzer or Niesha Toms at 202-776-8420 to receive the conference call-in number and the relevant information.

Dated: April 23, 2010.
Michael J. Dennis,
Attorney-Adviser, Office of Private International Law, Office of the Legal Advisor, U.S. Department of State.

[FR Doc. 2010-10021 Filed 4-28-10; 8:45 am]

BILLING CODE 4710-08-P